DEPARTMENT OF AGRICULTURE

Animal and Plant Health Inspection Service

[Docket No. APHIS-2013-0027]

Notice of Request for Extension of Approval of an Information Collection; Importation of Unshu Oranges From Japan

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for the importation of Unshu oranges from Japan.

DATES: We will consider all comments that we receive on or before August 9, 2013.

ADDRESSES: You may submit comments by either of the following methods:

• Federal eRulemaking Portal: Go to http://www.regulations.gov/#!documentDetail;D=APHIS-2013-0027-0001.

• Postal Mail/Commercial Delivery: Send your comment to Docket No. APHIS-2013-0027, Regulatory Analysis and Development, PPD, APHIS, Station 3A-03.8, 4700 River Road, Unit 118, Riverdale, MD 20737-1238.

Supporting documents and any comments we receive on this docket may be viewed at http://www.regulations.gov/#!docketDetail;D=APHIS-2013-0027 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of Unshu oranges from Japan, contact Mr. Andrew Wilds, Trade Director, PPQ, APHIS, 4700 River Road, Unit 140, Riverdale, MD 20737; (301) 851-2275. For copies of more detailed information on the information collection, contact Mrs. Celeste Sickles, APHIS' Information Collection Coordinator, at (301) 851-2908.

SUPPLEMENTARY INFORMATION: Title: Importation of Unshu Oranges From Japan.

OMB Number: 0579-0173.

Type of Request: Extension of approval of an information collection.

Abstract: The Plant Protection Act (PPA, 7 U.S.C. 7701 et seq.) authorizes the Secretary of Agriculture to restrict the importation, entry, or interstate movement of plants, plant products, and other articles to prevent the introduction of plant pests into the United States or their dissemination within the United States. As authorized by the PPA, the United States Department of Agriculture (USDA), Animal and Plant Health Inspection Service (APHIS) regulates the importation of citrus fruit from certain parts of the world as provided in “Subpart—Citrus Fruit” (7 CFR 319.28).

In accordance with these regulations, APHIS allows the importation of Unshu oranges from Kyushu Island, Honshu Island, and Shikoku Island, Japan, into the United States under certain conditions to prevent the introduction of plant pests into the United States. These conditions involve the use of information collection activities, including box labeling, a USDA-APHIS Application to Import Plants and Plant Products (Plant Protection and Quarantine (PPQ) Form 587), and a USDA-APHIS Foreign Site Certificate of Inspection and/or Treatment (PPQ Form 203).

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.0830 hours per response.

Respondents: Growers of Unshu oranges, importers, and the national plant protection organization of Japan.

Estimated annual number of respondents: 23.

Estimated annual number of responses per respondent: 2,896.

Estimated annual number of responses: 66,613.

Estimated total annual burden on respondents: 5,535 hours. (Due to averaging, the total annual burden hours may not equal the product of the annual number of responses multiplied by the reporting burden per response.)

All responses to this notice will be summarized and included in the request for OMB approval. All comments will also become a matter of public record.

Done in Washington, DC, this 5th day of June 2013.
Kevin Shea,
Acting Administrator, Animal and Plant Health Inspection Service.

[FR Doc. 2013-13690 Filed 6-7-13; 8:45 am]

BILLING CODE 3410-34-P